DEPARTMENT OF THE INTERIOR

Bureau of Land Management

[LLCON00000 L10200000.DF0000 LXSS080C0000]

Notice of Public Meeting, Northwest Colorado Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Northwest Colorado Resource Advisory Council (RAC) will meet on August 22, 2013, in Grand Junction.

DATES: The Northwest Colorado RAC will meet August 22, 2013, from 8 a.m. to 3 p.m., with public comment periods regarding matters on the agenda at 10 a.m. and 2 p.m. A specific agenda will be available before the meeting at http://www.blm.gov/co/st/en/BLM_Resources/racs/nwrac.html.

ADDRESSES: The meeting will be held at the Grand Junction Field Office, 2815 H Road, Grand Junction, Colorado.

FOR FURTHER INFORMATION CONTACT: David Boyd, Public Affairs Specialist, Colorado River Valley Field Office, 2300 River Frontage Road, Silt, CO; (970) 876-9008. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Northwest Colorado RAC advises the Secretary of the Interior, through the BLM, on a variety of public land issues in northwestern Colorado.

Topics of discussion during Northwest Colorado RAC meetings may include the BLM National Greater Sage-Grouse Planning Strategy, working group reports, recreation, fire management, land use planning, invasive species management, energy and minerals management, travel management, wilderness, wild horse herd management, land exchange proposals, cultural resource management and other issues as appropriate. These meetings are open to the public. The public may present written comments to the RACs. Each formal RAC meeting will also have time, as identified above, allocated for hearing public comments. Depending on the number of persons wishing to comment and time available, the time for individual oral comments may be limited.

A subcommittee under this RAC meets regarding the McInnis Canyon National Conservation Area. The subcommittee report to the Northwest Colorado RAC at each council meeting. Subcommittee meetings are open to the public. More information is available at http://www.blm.gov/co/st/en/BLM_Resources/racs/nwrac.html.

Dated: July 10, 2013.
Helen M. Hankins,
BLM Colorado State Director.

[FR Doc. 2013-17140 Filed 7-16-13; 8:45 am]

BILLING CODE 4310-JB-P